CORPORATION FOR NATIONAL AND COMMUNITY SERVICE

Proposed Information Collection; Comment Request

AGENCY: Corporation for National and Community Service.

ACTION: Notice.

SUMMARY: The Corporation for National and Community Service (CNCS), as part of its continuing effort to reduce paperwork and respondent burden, conducts a pre-clearance consultation program to provide the general public and federal agencies with an opportunity to comment on proposed and/or continuing collections of information in accordance with the Paperwork Reduction Act of 1995 (PRA95). This program helps to ensure that requested data can be provided in the desired format, reporting burden (time and financial resources) is minimized, collection instruments are clearly understood, and the impact of collection requirement on respondents can be properly assessed.

Currently, CNCS is soliciting comments concerning its Social Innovation Fund (SIF) Application Instructions. These instructions combine the previously approved SIF Application Instructions (OMB Control Number 3045-0155) and SIF Pay for Success Application Instructions (OMB Control Number 3045-0167) into one document. The application instructions will be used by organizations requesting funding for a SIF project.

Copies of the information collection request can be obtained by contacting the office listed in the Addresses section of this Notice.

DATES: Written comments must be submitted to the individual and office listed in the ADDRESSES section by February 21, 2017.

ADDRESSES: You may submit comments, identified by the title of the information collection activity, by any of the following methods:

(1) By mail sent to: Corporation for National and Community Service, Social Innovation Fund, Attention: Lois Nembhard, Director (Acting); 250 E St SW., Ste. 300, Washington, DC 20525.

(2) By hand delivery or by courier to the CNCS mailroom on the fourth floor at the mail address given in paragraph (1) above, between 9:00 a.m. and 4:00 p.m. Eastern Time, Monday through Friday, except Federal holidays.

(3) Electronically through www.regulations.gov.

Individuals who use a telecommunications device for the deaf (TTY-TDD) may call 1-800-833-3722 between 8:00 a.m. and 8:00 p.m. Eastern Time, Monday through Friday.

FOR FURTHER INFORMATION CONTACT: Lois Nembhard, 202-606-3223, or by email at innovation@cns.gov.

SUPPLEMENTARY INFORMATION:

CNCS is particularly interested in comments that:

• Evaluate whether the proposed collection of information is necessary for the proper performance of the functions of CNCS, including whether the information will have practical utility;

• Evaluate the accuracy of the agency's estimate of the burden of the proposed collection of information, including the validity of the methodology and assumptions used;

• Enhance the quality, utility, and clarity of the information to be collected; and

• Minimize the burden of the collection of information on those who are expected to respond, including the use of appropriate automated, electronic, mechanical, or other technological collection techniques or other forms of information technology (e.g., permitting electronic submissions of responses).

Background

This collection will be used by organizations applying to become Social Innovation Fund intermediaries. Applications will be submitted primarily via eGrants.

Current Action

This is a new information collection request. These instructions combine the previously approved SIF Application Instructions (OMB Control Number 3045-0155) and SIF Pay for Success Application Instructions (OMB Control Number 3045-0167) into one document.

The information collection will otherwise be used in the same manner as the existing application. CNCS also seeks to continue using the current application until the revised application is approved by OMB. The current application is due to expire on January 31, 2017.

Type of Review: New.

Agency: Corporation for National and Community Service.

Title: Social Innovation Fund Application Instructions.

OMB Number: None.

Agency Number: None.

Affected Public: Organizations applying to be Social Innovation Fund intermediaries.

Total Respondents: 50.

Frequency: Annual.

Average Time per Response: Averages 24 hours.

Estimated Total Burden Hours: 1,200.

Total Burden Cost (capital/startup): None.

Total Burden Cost (operating/maintenance): None.

Comments submitted in response to this notice will be summarized and/or included in the request for Office of Management and Budget approval of the information collection request; they will also become a matter of public record.

Authority: 44 U.S.C. Sec. 3506(c)(2)(A)

Dated: December 19, 2016.
Lois Nembhard,
Director (Acting), Social Innovation Fund.

[FR Doc. 2016-31012 Filed 12-22-16; 8:45 am]

BILLING CODE 6050-28-P